SUSQUEHANNA RIVER BASIN COMMISSION

Projects Approved for Consumptive Uses of Water

AGENCY: Susquehanna River Basin Commission.

ACTION: Notice.

SUMMARY: This notice lists Approvals by Rule for projects by the Susquehanna River Basin Commission during the period set forth in DATES.

DATES: October 1-31, 2023.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.gov. Regular mail inquiries may be sent to the above address.

SUPPLEMENTARY INFORMATION: This notice lists the projects, described below, receiving approval for the consumptive use of water pursuant to the Commission's approval by rule process set forth in 18 CFR 806.22 (f) for the time period specified above.

Water Source Approval—Issued Under 18 CFR 806.22(f)

1. JKLM Energy, LLC; Pad ID: TSF-12; ABR-202310001; Lawrence Township, Tioga County, Pa.; Consumptive Use of Up to 3.0000 mgd; Approval Date: October 2, 2023.

2. RENEWAL—BKV Operating, LLC; Pad ID: Mattocks 1; ABR-201110002.R2; Washington Township, Wyoming County, Pa.; Consumptive Use of Up to 5.0000 mgd; Approval Date: October 13, 2023.

3. RENEWAL—Chesapeake Appalachia, L.L.C.; Pad ID: Bouse Drilling Pad #1; ABR-201110008.R2; Monroe Township, Bradford County, Pa.; Consumptive Use of Up to 7.5000 mgd; Approval Date: October 13, 2023.

4. RENEWAL—Chesapeake Appalachia, L.L.C.; Pad ID: Laurel; ABR-201110004.R2; Overton Township, Bradford County, Pa.; Consumptive Use of Up to 7.5000 mgd; Approval Date: October 13, 2023.

5. RENEWAL—Chesapeake Appalachia, L.L.C.; Pad ID: Parkhurst; ABR-201309017.R2; Auburn Township, Susquehanna County, Pa.; Consumptive Use of Up to 7.5000 mgd; Approval Date: October 13, 2023.

6. RENEWAL—EQT ARO LLC; Pad ID: Elbow F&G Pad D; ABR-201309013.R2; Cogan House Township, Lycoming County, Pa.; Consumptive Use of Up to 4.0000 mgd; Approval Date: October 13, 2023.

7. RENEWAL—EQT ARO LLC; Pad ID: Kenmar HC Pad A; ABR-201309014.R2; Cogan House Township, Lycoming County, Pa.; Consumptive Use of Up to 4.0000 mgd; Approval Date: October 13, 2023.

8. RENEWAL—EQT ARO LLC; Pad ID: Mountain Meadow Lodge Pad B; ABR-201709005.R1; McIntyre Township, Lycoming County, Pa.; Consumptive Use of Up to 4.0000 mgd; Approval Date: October 13, 2023.

9. RENEWAL—Seneca Resources Company, LLC; Pad ID: Gamble Pad K; ABR-201309018.R2; Lewis Township, Lycoming County, Pa.; Consumptive Use of Up to 4.0000 mgd; Approval Date: October 13, 2023.

10. RENEWAL—SWN Production Company, LLC; Pad ID: Heckman Hiduk (Pad GS); ABR-201310003.R2; Herrick Township, Bradford County, Pa.; Consumptive Use of Up to 4.9990 mgd; Approval Date: October 13, 2023.

11. RENEWAL—SWN Production Company, LLC; Pad ID: Salt Lick Hunting Club-Range-Pad59; ABR-201310002.R2; New Milford Township, Susquehanna County, Pa.; Consumptive Use of Up to 4.9990 mgd; Approval Date: October 13, 2023.

12. Seneca Resources Company, LLC; Pad ID: Mitcheltree 6450; ABR-202310002; Richmond Township, Tioga County, Pa.; Consumptive Use of Up to 4.0000 mgd; Approval Date: October 15, 2023.

13. RENEWAL—Coterra Energy Inc.; Pad ID: PavelskiJ Pad 1; ABR-201810001.R1; Gibson Township, Susquehanna County, Pa.; Consumptive Use of Up to 5.0000 mgd; Approval Date: October 22, 2023.

14. RENEWAL—Inflection Energy (PA) LLC; Pad ID: Bennett Well Pad; ABR-201308015.R2; Eldred Township, Lycoming County, Pa.; Consumptive Use of Up to 4.0000 mgd; Approval Date: October 22, 2023.

15. RENEWAL—Repsol Oil & Gas USA, LLC; Pad ID: BELLOWS (03 078) L; ABR-201610001.R1; Columbia Township, Bradford County, Pa.; Consumptive Use of Up to 6.0000 mgd; Approval Date: October 22, 2023.

16. RENEWAL—Seneca Resources Company, LLC; Pad ID: Chappell 855; ABR-201110009.R2; Middlebury Township, Tioga County, Pa.; Consumptive Use of Up to 4.0000 mgd; Approval Date: October 22, 2023.

17. RENEWAL—Seneca Resources Company, LLC; Pad ID: Gamble Pad A; ABR-201110013.R2; Gamble Township, Lycoming County, Pa.; Consumptive Use of Up to 4.0000 mgd; Approval Date: October 22, 2023.

18. RENEWAL—Repsol Oil & Gas USA, LLC; Pad ID: DCNR 594 (02 200); ABR-201810002.R1; Liberty Township, Tioga County, Pa.; Consumptive Use of Up to 6.0000 mgd; Approval Date: October 23, 2023.

19. RENEWAL—Coterra Energy Inc.; Pad ID: WilliamsD P1; ABR-201110018.R2; Brooklyn Township, Susquehanna County, Pa.; Consumptive Use of Up to 5.0000 mgd; Approval Date: October 26, 2023.

Authority: Public Law 91-575, 84 Stat. 1509 et seq., 18 CFR parts 806 and 808.

Dated: November 8, 2023.
Jason E. Oyler,
General Counsel and Secretary to the Commission.

[FR Doc. 2023-25078 Filed 11-13-23; 8:45 am]

BILLING CODE 7040-01-P